DEPARTMENT OF COMMERCE

National Oceanic and Atmospheric Administration

50 CFR Part 622

[Docket No. 140903744-5258-02]

RIN 0648-BE46

Fisheries of the Caribbean, Gulf of Mexico, and South Atlantic; Shrimp Fishery of the Gulf of Mexico; Amendment 16

AGENCY: National Marine Fisheries Service (NMFS), National Oceanic and Atmospheric Administration (NOAA), Commerce.

ACTION: Final rule.

SUMMARY: NMFS issues this final rule to implement Amendment 16 to the Fishery Management Plan for the Shrimp Fishery of the Gulf of Mexico (FMP), as prepared and submitted by the Gulf of Mexico (Gulf) Fishery Management Council (Council). This final rule revises the annual catch limit (ACL) for royal red shrimp, removes the royal red shrimp quota, and revises the accountability measures (AMs) for royal red shrimp to remove an inconsistency in the regulations. The purpose of this rule is to prevent overfishing of the royal red shrimp resource while helping to achieve optimum yield and reconcile conflicting Federal regulations.

DATES: This rule is effective April 24, 2015.

ADDRESSES: Electronic copies of Amendment 16, which includes an supplemental environmental impact statement, a Regulatory Flexibility Act analysis, and a regulatory impact review, may be obtained from the Southeast Regional Office Web site at http://sero.nmfs.noaa.gov/sustainable_fisheries/gulf_fisheries/shrimp/2014/am16/index.html.

FOR FURTHER INFORMATION CONTACT: Susan Gerhart, telephone: 727-824-5305, or email: Susan.Gerhart@noaa.gov.

SUPPLEMENTARY INFORMATION: The shrimp fishery in the Gulf is managed under the FMP. The FMP was prepared by the Council and implemented through regulations at 50 CFR part 622 under the authority of the Magnuson-Stevens Fishery Conservation and Management Act (Magnuson-Stevens Act).

On March 11, 2014, NMFS published a notice of intent to prepare a supplemental environmental impact statement for Amendment 16 and requested public comment (79 FR 13623). NMFS published a notice of availablility for Amendment 16 on December 24, 2014, (79 FR 77425) and published the proposed rule on January 26, 2015, (80 FR 3937) and requested public comment. A summary of the actions implemented by Amendment 16 and this final rule is provided below.

On January 30, 2012, NMFS implemented regulations developed through the Generic ACL/AMs Amendment to multiple fishery management plans, including the Shrimp FMP (December 29, 2011, 76 FR 82044). That amendment included actions to establish the commercial ACL and AM for royal red shrimp. However, the “no action” alternatives and discussions in the Generic ACL Amendment incorrectly stated that there were currently no catch limits or AMs for royal red shrimp, even though a quota and in-season quota closure were in the regulations. As a consequence, through the Generic ACL Amendment, both a royal red shrimp ACL and AM were added to the regulations, but the existing quota and in-season quota closure provision were not removed.

Federal regulations currently include a royal red shrimp ACL of 334,000 lb (151,000 kg), tail weight, and a quota of 392,000 lb (177.8 mt), tail weight. This final rule removes the royal red shrimp quota and updates the ACL to 337,000 lb (152,861 kg), tail weight, which is equal to the acceptable biological catch as recommended by the Council's Scientific and Statistical Committee.

Federal regulations also include a royal red shrimp in-season closure if the quota is met or projected to be met, based on in-season monitoring (which functions as an AM), and include an AM that implements in-season monitoring and an ACL closure in the year following any ACL overage. The presence of two AMs in the regulations presents an inconsistency in the management of royal red shrimp. This final rule removes the in-season quota closure associated with the royal red shrimp quota and retains the AM associated with the ACL.

Comments and Responses

NMFS received one comment on the proposed rule related to analysis in the final supplemental environmental impact statementfrom a Federal agency. That comment is outside the scope of the rule and is addressed in the Record of Decision for Amendment 16. No other comments were received. No changes were made to the final rule based on public comment.

Classification

The Regional Administrator, Southeast Region, NMFS has determined that this final rule is necessary for the conservation and management of royal red shrimp and is consistent with Amendment 16, the FMP, the Magnuson-Stevens Act, and other applicable law.

This final rule has been determined to be not significant for purposes of Executive Order 12866.

The Magnuson-Stevens Act provides the statutory basis for this rule. No duplicative, overlapping, or conflicting Federal rules have been identified. In addition, no new reporting, record-keeping, or other compliance requirements are introduced by this final rule.

The Chief Counsel for Regulation of the Department of Commerce certified to the Chief Counsel for Advocacy of the Small Business Administration during the proposed rule stage that this rule would not have a significant economic impact on a substantial number of small entities. The factual basis for this determination was published in the proposed rule and is not repeated here. No comments were received regarding the certification and NMFS has not received any new information that would affect its determination. As a result, a final regulatory flexibility analysis is not required and none was prepared.

List of Subjects in 50 CFR Part 622

Accountability measures, Annual catch limits, Fisheries, Fishing, Gulf of Mexico, Royal red shrimp, Shrimp.

Dated: March 18, 2015.
Samuel D. Rauch III,
Deputy Assistant Administrator for Regulatory Programs, National Marine Fisheries Service.

For the reasons set out in the preamble, 50 CFR part 622 is amended as follows:

PART 622—FISHERIES OF THE CARIBBEAN, GULF OF MEXICO, AND SOUTH ATLANTIC

1. The authority citation for part 622 continues to read as follows:

Authority: 16 U.S.C. 1801 et seq.

§ 622.57 [Removed and Reserved]

2. Section 622.57 is removed and reserved.

3. In § 622.58, paragraph (a)(1) is revised to read as follows:

§ 622.58 Annual catch limits (ACLs), annual catch targets (ACTs), and accountability measures (AMs).

(a) * * *

(1) Commercial sector. If commercial landings, as estimated by the SRD, exceed the commercial ACL, then during the following fishing year, if commercial landings reach or are projected to reach the commercial ACL, the AA will file a notification with the Office of the Federal Register to close the commercial sector for the remainder of that fishing year. When the commercial sector is closed, royal red shrimp in or from the Gulf EEZ may not be retained, and the sale or purchase of royal red shrimp taken from the Gulf EEZ is prohibited. This prohibition on sale or purchase during a closure for royal red shrimp does not apply to royal red shrimp that were harvested, landed ashore, and sold prior to the effective date of the closure and were held in cold storage by a dealer or processor. The commercial ACL for royal red shrimp is 337,000 lb (152,861 kg), tail weight.

* * * * *

[FR Doc. 2015-06571 Filed 3-24-15; 8:45 am]

BILLING CODE 3510-22-P